DEPARTMENT OF TRANSPORTATION

Federal Aviation Administration

14 CFR Part 39

[Docket No. 2003-CE-06-AD; Amendment 39-13140; AD 2003-09-11]

RIN 2120-AA64

Airworthiness Directives; Pilatus Aircraft Ltd. Models PC-12 and PC-12/45 Airplanes

AGENCY: Federal Aviation Administration, DOT.

ACTION: Final rule.

SUMMARY: This amendment adopts a new airworthiness directive (AD) that applies to certain Pilatus Aircraft Ltd. (Pilatus) Models PC-12 and PC-12/45 airplanes. This AD requires you to inspect the pedestal leg assembly on aft facing passenger seats for correct configuration. If incorrectly configured, this AD requires you to modify to the correct configuration. This AD is the result of mandatory continuing airworthiness information (MCAI) issued by the airworthiness authority for Switzerland. The actions specified by this AD are intended to detect and correct pedestal leg assemblies on aft facing passenger seats that are in nonconformance with manufacturing standards. Nonconforming passenger seats could result in passenger injury in an emergency situation.

DATES: This AD becomes effective on June 16, 2003.

The Director of the Federal Register approved the incorporation by reference of certain publications listed in the regulations as of June 16, 2003.

ADDRESSES: You may get the service information referenced in this AD from Pilatus Aircraft Ltd., Customer Liaison Manager, CH-6371 Stans, Switzerland; telephone: +41 41 619 63 19; facsimile: +41 41 619 6224; or from Pilatus Business Aircraft Ltd., Product Support Department, 11755 Airport Way, Broomfield, Colorado 80021; telephone: (303) 465-9099; facsimile: (303) 465-6040. You may view this information at the Federal Aviation Administration (FAA), Central Region, Office of the Regional Counsel, Attention: Rules Docket No. 2003-CE-06-AD, 901 Locust, Room 506, Kansas City, Missouri 64106; or at the Office of the Federal Register, 800 North Capitol Street, NW., suite 700, Washington, DC.

FOR FURTHER INFORMATION CONTACT: Doug Rudolph, Aerospace Engineer, FAA, Small Airplane Directorate, 901 Locust, Room 301, Kansas City, Missouri 64106; telephone: (816) 329-4059; facsimile: (816) 329-4090.

SUPPLEMENTARY INFORMATION:

Discussion

What events have caused this AD? The Federal Office for Civil Aviation (FOCA), which is the airworthiness authority for Switzerland, recently notified FAA that an unsafe condition may exist on certain Pilatus Models PC-12 and PC-12/45 airplanes. The FOCA reports that, during manufacture of certain aft facing aircraft passenger seats (vendor part numbers (VPN) 403008-1 and 403008-2), the forward pedestal legs were installed in reverse order. One instance was found during the seat manufacturer's final quality control inspection. Pilatus found another instance.

What is the potential impact if FAA took no action? This condition, if not corrected, could result in failure of the aircraft seat pedestal leg assembly. Such failure could result in passenger injury in an emergency situation.

Has FAA taken any action to this point? We issued a proposal to amend part 39 of the Federal Aviation Regulations (14 CFR part 39) to include an AD that would apply to certain Pilatus Models PC-12 and PC-12/45 airplanes. This proposal was published in the Federal Register as a notice of proposed rulemaking (NPRM) on February 19, 2003 (68 FR 7947). The NPRM proposed to require you to inspect the pedestal leg assembly on aft facing passenger seats for correct configuration. If incorrectly configured, the NPRM proposed to require you to modify to the correct configuration.

Was the public invited to comment? The FAA encouraged interested persons to participate in the making of this amendment. We did not receive any comments on the proposed rule or on our determination of the cost to the public.

FAA's Determination

What is FAA's final determination on this issue? After careful review of all available information related to the subject presented above, we have determined that air safety and the public interest require the adoption of the rule as proposed except for minor editorial corrections. We have determined that these minor corrections:

—Provide the intent that was proposed in the NPRM for correcting the unsafe condition; and

—Do not add any additional burden upon the public than was already proposed in the NPRM.

What are the differences between this AD, the service information, and the FOCA AD? The FOCA AD and the service information require an inspection of the identification tag on certain passenger seats to determine if the Pilatus part number correctly corresponds to the ERDA vendor part number. The identification tag may incorrectly identify the Pilatus part number; although the ERDA vendor part number is correct. If the corresponding part numbers are incorrect, the FOCA AD and the service information require affixing a new identification tag with the correct corresponding Pilatus part number. The procedures for accomplishing this inspection and modification are contained in Decrane Aircraft, ERDA, Inc., Service Bulletin SB02011, Revision A, June 3, 2002.

Because the ERDA part number is correct, we are not including this as part of the unsafe condition. However, we will include a note in this AD recommending that you verify that the corresponding Pilatus part number is correct.

How does the revision to 14 CFR part 39 affect this AD? On July 10, 2002, FAA published a new version of 14 CFR part 39 (67 FR 47997, July 22, 2002), which governs FAA's AD system. This regulation now includes material that relates to special flight permits, alternative methods of compliance, and altered products. This material previously was included in each individual AD. Since this material is included in 14 CFR part 39, we will not include it in future AD actions.

How many airplanes does this AD impact? We estimate that this AD affects 280 airplanes in the U.S. registry.

What is the cost impact of this AD on owners/operators of the affected airplanes? We estimate the following costs to accomplish the inspection:

Labor cost | Parts cost | Total cost per airplane | Total cost on U.S. operators
1 workhour × $60 = $60 | No parts required to perform inspection | $60 | $60 × 280 = $16,800

We estimate the following costs to accomplish the modification:

Labor cost | Parts cost | Total cost per airplane | Total cost on U.S. operators
2 workhours × $60 = $120 | $150 | $270 | $270 × 280 = $75,600

Compliance Time of This AD

What is the compliance time of this AD? The compliance time of this AD is “within the next 90 days after the effective date of this AD.”

Why is the compliance time presented in calendar time instead of hours time-in-service (TIS)? The compliance of this AD is presented in calendar time instead of hours TIS because the unsafe condition is a result of an improper installation. The unsafe condition has the same chance of occurring on an airplane with 50 hours TIS as it is for an airplane with 1,000 hours TIS. Therefore, we believe that a compliance time of 90 days will:

—Ensure that the unsafe condition does not go undetected for a long period of time on the affected airplanes; and

—Not inadvertently ground any of the affected airplanes.

Regulatory Impact

Does this AD impact various entities? The regulations adopted herein will not have a substantial direct effect on the States, on the relationship between the national government and the States, or on the distribution of power and responsibilities among the various levels of government. Therefore, it is determined that this final rule does not have federalism implications under Executive Order 13132.

Does this AD involve a significant rule or regulatory action? For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A copy of the final evaluation prepared for this action is contained in the Rules Docket. A copy of it may be obtained by contacting the Rules Docket at the location provided under the caption ADDRESSES.

List of Subjects in 14 CFR Part 39

Air transportation, Aircraft, Aviation safety, Incorporation by reference, Safety.

Adoption of the Amendment

Accordingly, under the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. FAA amends § 39.13 by adding a new AD to read as follows:

2003-09-11 Pilatus Aircraft LTD.: Amendment 39-13140; Docket No. 2003-CE-06-AD.

(a) What airplanes are affected by this AD? This AD affects Models PC-12 and PC-12/45 airplanes, manufacturer serial numbers (MSN) 101 through 436, that:

(1) Incorporate a passenger seat, ERDA Vendor Part Number (VPN) 403008-1 or 403008-2 (also identified as Pilatus Part Number (P/N) 959.30.01.601, 959.30.01.602, 959.30.01.613, or 959.30.01.614) (or FAA-approved equivalent part number), with a serial number as specified in Decrane Aircraft, ERDA, Inc., Service Bulletin SB02010, Revision A, June 3, 2002; and

(2) Are certificated in any category.

(b) Who must comply with this AD? Anyone who wishes to operate any of the airplanes identified in paragraph (a) of this AD must comply with this AD.

(c) What problem does this AD address? The actions specified by this AD are intended to detect and correct pedestal leg assemblies on aft facing passenger seats that are in nonconformance with manufacturing standards. Nonconforming passenger seats could result in passenger injury in an emergency situation.

(d) What actions must I accomplish to address this problem? To address this problem, you must accomplish the following, unless already accomplished:

Actions | Compliance | Procedures
(1) Inspect the forward pedestal legs on the aircraft aft facing passenger seat for correct configuration | Within the next 90 days after June 16, 2003 (the effective date of this AD) | In accordance with Decrane Aircraft, ERDA, Inc., Service Bulletin SB02010, Revision A, June 3, 2002; as specified in Pilatus PC12 Service Bulletin No. 25-025, dated September 27, 2002.
(2) If the legs are incorrectly configured, modify to the correct configuration | Prior to further inspection required in paragraph (d)(1) of this AD | In accordance with Decrane flight after Aircraft, the ERDA, Inc., Service Bulletin SB02010, Revision A, June 3, 2002; as specified in Pilatus PC12 Service Bulletin No. 25-025, dated September 27, 2002.
(3) Do not install any affected seat specified in paragraph (a) of this AD unless it has been inspected as specified in paragraph (d)(1) of this AD and configured in accordance with Decrane Aircraft, ERDA, Inc., Service Bulletin SB02010, Revision A, June 3, 2002; as specified in Pilatus PC12 Service Bulletin No. 25-025, dated September 27, 2002 | As of June 16, 2003 (the effective date of this AD) | In accordance with Decrane Aircraft, ERDA, Inc., Service Bulletin SB02010, Revision A, June 3, 2002; as specified in Pilatus PC12 Service Bulletin No. 25-025, dated September 27, 2002.

Note 1: Although not required by this AD, we recommend that you verify that the Pilatus part number correctly corresponds with the ERDA vendor part number on certain passenger seats. The procedures for accomplishing this action are contained in Decrane Aircraft, ERDA, Inc., Service Bulletin SB02011, Revision A, June 3, 2002.

(e) Can I comply with this AD in any other way? To use an alternative method of compliance or adjust the compliance time, use the procedures in 14 CFR 39.19. Send these requests to the Manager, Standards Office, Small Airplane Directorate. For information on any already approved alternative methods of compliance, contact Doug Rudolph, Aerospace Engineer, FAA, Small Airplane Directorate, 901 Locust, Room 301, Kansas City, Missouri 64106; telephone: (816) 329-4059; facsimile: (816) 329-4090.

(f) Are any service bulletins incorporated into this AD by reference? Actions required by this AD must be done in accordance with Decrane Aircraft, ERDA, Inc., Service Bulletin SB02010, Revision A, June 3, 2002 (Annex B); as specified in Pilatus PC12 Service Bulletin No. 25-025, dated September 27, 2002 excluding Decrane Aircraft, ERDA, Inc, Service Bulletin SB0211, Revision A, dated June 3, 2002 (Annex A). The Director of the Federal Register approved this incorporation by reference under 5 U.S.C. 552(a) and 1 CFR part 51. You may get copies from Pilatus Aircraft Ltd., Customer Liaison Manager, CH-6371 Stans, Switzerland; telephone: +41 41 619 63 19; facsimile: +41 41 619 6224; or from Pilatus Business Aircraft Ltd., Product Support Department, 11755 Airport Way, Broomfield, Colorado 80021; telephone: (303) 465-9099; facsimile: (303) 465-6040. You may view copies at the FAA, Central Region, Office of the Regional Counsel, 901 Locust, Room 506, Kansas City, Missouri, or at the Office of the Federal Register, 800 North Capitol Street, NW., suite 700, Washington, DC.

Note 2: The subject of this AD is addressed in Swiss AD Number HB 2002-658, dated November 30, 2002.

(g) When does this amendment become effective? This amendment becomes effective on June 16, 2003.

Issued in Kansas City, Missouri, on April 23, 2003.
Dorenda D. Baker,
Acting Manager, Small Airplane Directorate, Aircraft Certification Service.

[FR Doc. 03-10510 Filed 5-1-03; 8:45 am]

BILLING CODE 4910-13-P